DEPARTMENT OF COMMERCE

International Trade Administration

[A-580-889]

Dioctyl Terephthalate From the Republic of Korea: Postponement of Preliminary Determination of Antidumping Duty Investigation

AGENCY: Enforcement and Compliance, International Trade Administration, Department of Commerce.

DATES: Effective November 14, 2016.

FOR FURTHER INFORMATION CONTACT: Shanah Lee or Laurel LaCivita, AD/CVD Operations, Office III, Enforcement and Compliance, International Trade Administration, U.S. Department of Commerce, 14th Street and Constitution Avenue NW., Washington, DC 20230; telephone: (202) 482-6386 or (202) 482-4243, respectively.

SUPPLEMENTARY INFORMATION:

Background

On July 20, 2016, the Department of Commerce (“Department”) initiated an antidumping duty investigation concerning imports of dioctyl terephthalate (“DOTP”) from the Republic of Korea (“Korea”).¹ The notice of initiation stated that, in accordance with section 733(b)(1)(A) of the Tariff Act of 1930, as amended (“the Act”), and 19 CFR 351.205(b)(1), we would issue our preliminary determination no later than 140 days after the date of initiation, unless postponed. Currently, the preliminary determination in this investigation is due no later than December 7, 2016.

¹ See Dioctyl Terephthalate From the Republic of Korea: Initiation of Less-Than-Fair-Value Investigation, 81 FR 49628 (July 28, 2016).

Postponement of Preliminary Determination

If the petitioner makes a timely request for a postponement, section 733(c)(1)(A) of the Act allows the Department to postpone making the preliminary determination until no later than 190 days after the date on which the Department initiated the investigation. On October 28, 2016, Eastman Chemical Company (“Petitioner”) submitted a timely request for a postponement of the preliminary determination pursuant to section 733(c)(1)(A) of the Act and 19 CFR 351.205(e), in order to provide the Department sufficient time to review all relevant information from the respondents and issue appropriate requests for clarification or additional information.²

² See Letter from Petitioner, “Dioctyl Terephthalate (“DOTP”) from Korea; Request to Postpone Preliminary Determination,” dated October 28, 2016.

For the reasons stated above, and because there are no compelling reasons to deny Petitioner's request, the Department is postponing the deadline for the preliminary determination to no later than 190 days after the day on which the investigation was initiated, in accordance with section 733(c)(1)(A) of the Act. Accordingly, the Department intends to issue the preliminary determination no later than January 26, 2017. In accordance with section 735(a)(1) of the Act and 19 CFR 351.210(b)(1), the deadline for the final determination of this investigation will continue to be 75 days after the date of the preliminary determination, unless postponed at a later date.

This notice is issued and published pursuant to section 733(c)(2) of the Act and 19 CFR 351.205(f)(1).

Dated: November 3, 2016.
Paul Piquado,
Assistant Secretary for Enforcement and Compliance.

[FR Doc. 2016-27262 Filed 11-10-16; 8:45 am]

BILLING CODE 3510-DS-P